DEPARTMENT OF HEALTH AND HUMAN SERVICES

Administration for Children and Families

[Program Announcement No. ACYF-PA-HS-2001-05B]

Fiscal Year 2001 Discretionary Announcement of the Availability of Funds and Request for Applications for Nationwide Expansion Competition of Early Head Start; Correction

AGENCY: Administration on Children, Youth and Families, ACF, DHHS.

ACTION: Correction.

SUMMARY: This document contains a correction to the Notice that was published in the Federal Register on March 7, 2001.

On page 13760, in the State of New York, delete the County of “Seneca”, and in the Service Area Column delete “Entire County”. All of the County is open to competition to establish Early Head Start programs.

The due date will be extended for applications from this county only. Applications from Seneca County are due by 5 p.m. EDT on May 29, 2001. The application should be submitted to: Early Head Start Nationwide Expansion Competition, ACYF Operations Center, 1815 North Fort Myer Drive, Suite 300, Arlington, Virginia 22209.

All other applications are still due by 5 p.m. EDT on May 7, 2001.

On page 13755, in the State of Maine, in the County column, delete “Southern Oxford” and replace it with “Oxford” and in the Service Area Column, delete “South Paris, Buckfield, Summer, Hartford” and replace it with “Entire County”.

On page 13766, in the State of Washington, in the County Column, after “Spokane” add the County of “Walla Walla”, and in the Service Area Column, add “The city of Walla Walla, Farm Labor Homes Community and College Place”.

FOR FURTHER INFORMATION CONTACT: The ACYF Operations Center at 1-800-351-2293 or send an email to ehs@lcgnet.com. You can also contact Sherri Ash, Early Head Start, Head Start Bureau at (202) 205-8562.

Dated: April 20, 2001.
Gail E. Collins,
Acting Deputy Commissioner, Administration on Children, Youth and Families.

[FR Doc. 01-10396 Filed 4-25-01; 8:45 am]

BILLING CODE 4184-01-M